NUCLEAR REGULATORY COMMISSION

[NRC-2021-0095]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This monthly notice includes all amendments issued, or proposed to be issued, from March 5, 2021, to April 1, 2021. The last monthly notice was published on March 23, 2021.

DATES: Comments must be filed by May 20, 2021. A request for a hearing or petitions for leave to intervene must be filed by June 21, 2021.

ADDRESSES: You may submit comments by any of the following methods; however, the NRC encourages electronic comment submission through the Federal Rulemaking website:

• Federal Rulemaking Website: Go to https://www.regulations.gov and search for Docket ID NRC-2021-0095. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Rhonda Butler, Office of Nuclear Reactor Regulation, U.S. Nuclear Regulatory Commission, Washington, DC 20555-0001, telephone: 301-415-8025, email: Rhonda.Butler@nrc.gov.

SUPPLEMENTARY INFORMATION:

I. Obtaining Information and Submitting Comments

A. Obtaining Information

Please refer to Docket ID NRC-2021-0095, facility name, unit number(s), docket number(s), application date, and subject when contacting the NRC about the availability of information for this action. You may obtain publicly available information related to this action by any of the following methods:

• Federal Rulemaking Website: Go to https://www.regulations.gov and search for Docket ID NRC-2021-0095.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call1-800-397-4209 or 301-415-4737 between 8:00 a.m. and 4:00 p.m. (EST), Monday through Friday, except Federal holidays.

B. Submitting Comments

The NRC encourages electronic comment submission through the Federal Rulemaking website (https://www.regulations.gov). Please include Docket ID NRC-2021-0095, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown below, the Commission finds that the licensees' analyses provided, consistent with title 10 of the Code of Federal Regulations (10 CFR) section 50.91, are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call to 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The table below provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Duke Energy Progress, LLC; Brunswick Steam Electric Plant, Units 1 and 2; Brunswick County, NC
Docket No(s) | 50-324, 50-325.
Application date | February 23, 2021.
ADAMS Accession No | ML21054A197.
Location in Application of NSHC | Pages 5-6 of the Enclosure.
Brief Description of Amendment(s) | The proposed amendments would increase the minimum boron solution storage tank volume requirements for the standby liquid control system.
Proposed Determination | NSHC.
Name of Attorney for Licensee, Mailing Address | Kathryn B. Nolan, Deputy General Counsel, Duke Energy Corporation, 550 South Tryon Street (DEC45A), Charlotte, NC 28202.
NRC Project Manager, Telephone Number | Andrew Hon, 301-415-8480.
Duke Energy Progress, LLC; Shearon Harris Nuclear Power Plant, Unit 1; Wake and Chatham Counties, NC
Docket No(s) | 50-400.
Application date | January 14, 2021.
ADAMS Accession No | ML21014A092.
Location in Application of NSHC | Pages 14-16 of the Enclosure.
Brief Description of Amendment(s) | The proposed amendment would revise the license condition associated with the adoption of 10 CFR 50.69, that was added to the Shearon Harris Nuclear Power Plant, Unit 1 facility operating license with issuance of Amendment No. 174 (ADAMS Accession No. ML19192A012). Specifically, the proposed change would revise the license condition to reflect an alternative approach for evaluating the impact of the seismic hazard in the categorization process.
Proposed Determination | NSHC.
Name of Attorney for Licensee, Mailing Address | David Cummings, Associate General Counsel, Mail Code DEC45, 550 South Tryon Street, Charlotte NC 28202.
NRC Project Manager, Telephone Number | Michael Mahoney, 301-415-3867.
Energy Harbor Nuclear Corp. and Energy Harbor Nuclear Generation LLC; Perry Nuclear Power Plant, Unit 1; Lake County, OH
Docket No(s) | 50-440.
Application date | February 17, 2021.
ADAMS Accession No | ML21049A031.
Location in Application of NSHC | Pages 4-6 of the Enclosure.
Brief Description of Amendment(s) | The proposed amendment would adopt Technical Specifications Task Force (TSTF) Traveler TSTF-230, Revision 1, “Add New Condition B to LCO [Limiting Condition for Operation] 3.6.2.3, `RHR [Residual Heat Removal] Suppression Pool Cooling,' ” to allow two RHR suppression pool cooling subsystems to be inoperable for 8 hours.
Proposed Determination | NSHC.
Name of Attorney for Licensee, Mailing Address | Rick Giannantonio, General Counsel, Energy Harbor Nuclear Corp., Mail Stop A-GO-15, 76 South Main Street, Akron, OH 44308.
NRC Project Manager, Telephone Number | Scott Wall, 301-415-2855.
Energy Harbor Nuclear Corp. and Energy Harbor Nuclear Generation LLC; Perry Nuclear Power Plant, Unit 1; Lake County, OH
Docket No(s) | 50-440.
Application date | March 5, 2021.
ADAMS Accession No | ML21069A276.
Location in Application of NSHC | Pages 4-5 of the Enclosure.
Brief Description of Amendment(s) | The proposed amendment would modify Specification 3.8.3, “Diesel Fuel Oil, Lube Oil, and Starting Air,” by removing Surveillance Requirement (SR) 3.8.3.6 and placing it under licensee control. The changes are consistent with Technical Specification Task Force (TSTF) Traveler TSTF-002-A, Revision 1, “Relocate the 10 Year Sediment Cleaning of the Fuel Oil Storage Tank to Licensee Control.”
Proposed Determination | NSHC.
Name of Attorney for Licensee, Mailing Address | Rick Giannantonio, General Counsel, Energy Harbor Nuclear Corp., Mail Stop A-GO-15, 76 South Main Street, Akron, OH 44308.
NRC Project Manager, Telephone Number | Scott Wall, 301-415-2855.
Entergy Operations, Inc.; Arkansas Nuclear One, Units 1 and 2; Pope County, AR
Docket No(s) | 50-313, 50-368.
Application date | February 8, 2021.
ADAMS Accession No | ML21039A756.
Location in Application of NSHC | Pages 23-24 of the Enclosure.
Brief Description of Amendment(s) | The proposed amendments for Arkansas Nuclear One, Units 1 and 2 (ANO-1 and ANO-2) would revise the emergency cooling pond (ECP) technical specifications (TSs) (i.e., ANO-1 TS 3.7.8 and ANO-2 TS 3.7.4.1), to allow the ECP to remain operable on a one-time basis for up to 65 days to perform proactive upgrades to the ECP supply piping. These changes would allow the licensee the time to perform upgrades on the ECP piping from the ECP to the service water system intake bays prior to a spring outage for each unit.
Proposed Determination | NSHC.
Name of Attorney for Licensee, Mailing Address | Anna Vinson Jones, Senior Counsel, Entergy Services, Inc., 101 Constitution Avenue NW, Suite 200 East, Washington, DC 20001.
NRC Project Manager, Telephone Number | Thomas Wengert, 301-415-4037.
Exelon Generation Company, LLC; Clinton Power Station, Unit 1; DeWitt County, IL
Docket No(s) | 50-461.
Application date | February 24, 2021.
ADAMS Accession No | ML21055A822.
Location in Application of NSHC | Pages 27-29 of Attachment 1.
Brief Description of Amendment(s) | The proposed amendment would revise Technical Specification Section 5.5.13, “Primary Containment Leakage Rate Testing Program,” to allow a one-time extension to the 15-year frequency of the Clinton Power Station, Unit 1, containment integrated leakage rate test (ILRT or Type A test). The proposed one-time change would permit the current ILRT interval of 15 years to be extended by 8 months.
Proposed Determination | NSHC.
Name of Attorney for Licensee, Mailing Address | Tamra Domeyer, Associate General Counsel, Exelon Generation Company, LLC, 4300 Winfield Road, Warrenville, IL 60555.
NRC Project Manager, Telephone Number | Joel Wiebe, 301-415-6606.
Exelon Generation Company, LLC; LaSalle County Station, Units 1 and 2; LaSalle County, IL
Docket No(s) | 50-373, 50-374.
Application date | February 10, 2021.
ADAMS Accession No | ML21041A490.
Location in Application of NSHC | Pages 7-9 of Attachment 1.
Brief Description of Amendment(s) | The proposed amendments would revise the LaSalle County Station (LSCS) technical specifications (TS) to incorporate the methodology in the Licensing Topical Report, “GNF CRDA Application Methodology,” NEDE-33885P-A, Revision 1, dated March 2020, by modifying LSCS TS Sections 3.1.3, “Control Rod Operability,” 3.1.6, “Rod Pattern Control,” and 3.3.2.1, “Control Rod Block Instrumentation,” to allow for greater flexibility in rod control operations during various stages of reactor power operation. Additionally, the proposed amendment would modify the requirements on control rod withdrawal order and conditions to protect against a postulated control rod drop accident during startup and low power conditions.
Proposed Determination | NSHC.
Name of Attorney for Licensee, Mailing Address | Tamra Domeyer, Associate General Counsel, Exelon Generation Company, LLC, 4300 Winfield Road, Warrenville, IL 60555.
NRC Project Manager, Telephone Number | Bhalchandra Vaidya, 301-415-3308.
Exelon Generation Company, LLC; Three Mile Island Nuclear Station, Unit 1; Dauphin County, PA
Docket No(s) | 50-289.
Application date | December 16, 2020.
ADAMS Accession No | ML20351A451.
Location in Application of NSHC | Pages 42-45 of Attachment 1.
Brief Description of Amendment(s) | The proposed amendment would revise the license conditions and technical specifications after the plant and spent fuel pool have been permanently defueled.
Proposed Determination | NSHC.
Name of Attorney for Licensee, Mailing Address | Donald P. Ferraro, Assistant General Counsel, Exelon Generation Company, LLC, 200 Exelon Way, Suite 305, Kennett Square, PA 19348.
NRC Project Manager, Telephone Number | Ted Smith, 301-415-6721.
Exelon Generation Company, LLC; Three Mile Island Nuclear Station, Unit 1; Dauphin County, PA
Docket No(s) | 50-289.
Application date | March 4, 2021.
ADAMS Accession No | ML21063A446.
Location in Application of NSHC | Pages 14-16 of Attachment 1.
Brief Description of Amendment(s) | The proposed amendment would revise Renewed Facility License No. DPR-50. Specifically, the amendment would revise the site emergency plan and Emergency Action Level scheme for the permanently defueled condition after all irradiated fuel has been transferred from the spent fuel pools (SFPs) to the Independent Spent Fuel Storage Installation. This proposed change would permit specific reductions in the size and makeup of the Emergency Response Organization due to the elimination of the design basis accident related to the spent fuel based on the complete removal of all irradiated fuel from the SFPs. The proposed changes are necessary to properly reflect the conditions of the facility while continuing to preserve the Decommissioning Trust Fund and the effectiveness of the emergency plan.
Proposed Determination | NSHC.
Name of Attorney for Licensee, Mailing Address | Donald P. Ferraro, Assistant General Counsel, Exelon Generation Company, LLC, 200 Exelon Way, Suite 305, Kennett Square, PA 19348.
NRC Project Manager, Telephone Number | Theodore Smith, 301-415-6721.
Florida Power & Light Company, et al.; St. Lucie Plant, Units 1 and 2; St. Lucie County, FL
Docket No(s) | 50-335, 50-389.
Application date | December 21, 2020.
ADAMS Accession No | ML20356A162.
Location in Application of NSHC | Pages 15-16 of the Enclosure.
Brief Description of Amendment(s) | The proposed amendments would revise the operating licenses and technical specifications to permit the application of risk-informed completion times for the 120-Volt Alternating Current Instrument Bus requirements, consistent with Technical Specifications Task Force (TSTF) Traveler TSTF-505, Revision 2, “Provide Risk-Informed Extended Completion Times RITSTF Initiative 4b.”
Proposed Determination | NSHC.
Name of Attorney for Licensee, Mailing Address | Steven Hamrick, Managing Attorney—Nuclear, Florida Power and Light Company, P.O. Box 14000, Juno Beach, FL 33408-0420.
NRC Project Manager, Telephone Number | Natreon Jordan, 301-415-7410.
Holtec Decommissioning International, LLC; Oyster Creek Nuclear Generating Station; Forked River, NJ
Docket No(s) | 50-219.
Application date | March 16, 2021.
ADAMS Accession No | ML21075A337.
Location in Application of NSHC | Pages 32-34 of Enclosure 1.
Brief Description of Amendment(s) | The proposed amendment would revise the Renewed Facility Operating License No. DPR-16 and associated technical specifications (TS) to reflect removal of all spent nuclear fuel from the spent fuel pool and its transfer to dry cask storage within a site controlled Independent Spent Fuel Storage Installation. The proposed changes include recognition of the approved Holtec Decommissioning International, LLC Decommissioning Quality Assurance Plan and relocation of specific existing TS Administrative Controls from Permanently Defueled Technical Specifications to the Defueled Safety Analysis Report.
Proposed Determination | NSHC.
Name of Attorney for Licensee, Mailing Address | Erin Connolly, Corporate Counsel—Legal, Holtec International, Krishna P. Singh Technology Campus, 1 Holtec Blvd., Camden, NJ 08104.
NRC Project Manager, Telephone Number | Zahira Cruz Perez, 301-415-3808.
Holtec Pilgrim, LLC and Holtec Decommissioning International; Pilgrim Nuclear Power Station; Plymouth County, MA
Docket No(s) | 50-293.
Application date | February 18, 2021.
ADAMS Accession No | ML21049A192.
Location in Application of NSHC | Pages 17-19 of Enclosure 1.
Brief Description of Amendment(s) | The proposed amendment would revise the Pilgrim Nuclear Power Station (PNPS) Emergency Plan and associated emergency action level (EAL) scheme to comport with the requirements for a facility configuration with all spent nuclear fuel in dry storage within an Independent Spent Fuel Storage Installation (ISFSI). The Holtec Decommissioning International staff explains that the reason for this proposed amendment request is to obtain NRC approval of the PNPS ISFSI Only Emergency Plan and associated EAL scheme and that the proposed changes are being submitted to the NRC for approval prior to implementation, as required under 10 CFR 50.54(q)(4).
Proposed Determination | NSHC.
Name of Attorney for Licensee, Mailing Address | Erin Connolly, Corporate Counsel—Legal, Holtec International, Krishna P. Singh Technology Campus, 1 Holtec Blvd., Camden, NJ 08104.
NRC Project Manager, Telephone Number | Amy Snyder, 301-415-6822.
Holtec Pilgrim, LLC and Holtec Decommissioning International; Pilgrim Nuclear Power Station; Plymouth County, MA
Docket No(s) | 50-293.
Application date | March 17, 2021.
ADAMS Accession No | ML21076A404.
Location in Application of NSHC | Pages 30-32 of Enclosure 1.
Brief Description of Amendment(s) | The proposed amendment would revise the 10 CFR part 50 facility license and the technical specifications to reflect removal of all spent nuclear fuel from the spent fuel pool and its transfer to dry cask storage within a site controlled Independent Spent Fuel Storage Installation.
Proposed Determination | NSHC.
Name of Attorney for Licensee, Mailing Address | Erin Connolly, Corporate Counsel—Legal, Holtec International, Krishna P. Singh Technology Campus, 1 Holtec Blvd., Camden, NJ 08104.
NRC Project Manager, Telephone Number | Amy Snyder, 301-415-6822.
NextEra Energy Duane Arnold, LLC; Duane Arnold Energy Center; Linn County, IA
Docket No(s) | 50-331.
Application date | February 19, 2021.
ADAMS Accession No | ML21050A189.
Location in Application of NSHC | Pages 25-28 of the Enclosure.
Brief Description of Amendment(s) | The proposed amendment would revise the Duane Arnold operating license and technical specifications (TS) to reflect removal of all spent nuclear fuel from the spent fuel pool (SFP) and its transfer to dry cask storage within the Independent Spent Fuel Storage Installation (ISFSI). The proposed changes include the relocation of administrative controls from the Duane Arnold Energy Center (DAEC) TS to the DAEC Quality Assurance Topical Report. The proposed license amendment would not be implemented until after the licensee provides notification to the NRC that all spent nuclear fuel has been transferred out of the SFP and placed within the ISFSI, which is expected to occur in 2022.
Proposed Determination | NSHC.
Name of Attorney for Licensee, Mailing Address | Steven Hamrick, Managing Attorney—Nuclear, Florida Power and Light Company, P.O. Box 14000, Juno Beach, FL 33408-0420.
NRC Project Manager, Telephone Number | Marlayna Doell, 301-415-3178.
Pacific Gas and Electric Company; Humboldt Bay Power Plant Unit 3; Humboldt County, CA
Docket No(s) | 50-133.
Application date | February 8, 2021.
ADAMS Accession No | ML21039A515.
Location in Application of NSHC | Pages 8-10 of the Enclosure.
Brief Description of Amendment(s) | The proposed amendment would revise the License Termination Plan (LTP). The proposed revisions to the LTP include (1) deleting information associated with developing surrogate ratios; (2) deleting the deselection process currently described in LTP, Section 6.2.5; and (3) adding a new methodology for determining dose contribution from deselected hard-to-detect radionuclides.
Proposed Determination | NSHC.
Name of Attorney for Licensee, Mailing Address | Jennifer Post, Esq., Pacific Gas and Electric Co., 77 Beale Street, Room 3065, Mail Code B30A, San Francisco, CA 94105.
NRC Project Manager, Telephone Number | Amy Snyder, 301-415-6822.
Tennessee Valley Authority; Watts Bar Nuclear Plant, Unit 2; Rhea County, TN
Docket No(s) | 50-391.
Application date | March 2, 2021.
ADAMS Accession No | ML21061A346.
Location in Application of NSHC | Pages 6-7 of the Enclosure.
Brief Description of Amendment(s) | The proposed amendment would revise the Watts Bar Nuclear Plant dual-unit Updated Final Safety Analysis Report Section 15.5.5 dose analysis inputs and results for the steam generator tube rupture accident to reflect the installation of the Unit 2 replacement steam generators.
Proposed Determination | NSHC.
Name of Attorney for Licensee, Mailing Address | David Fountain, Executive VP and General Counsel, Tennessee Valley Authority, 400 West Summit Hill Drive, WT 6A, Knoxville, TN 37902.
NRC Project Manager, Telephone Number | Kimberly Green, 301-415-1627.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the table below. The safety evaluation will provide the ADAMS accession numbers for the application for amendment and the Federal Register citation for any environmental assessment. All of these items can be accessed as described in the “Obtaining Information and Submitting Comments” section of this document.

License Amendment Issuance(s)
Dominion Energy Nuclear Connecticut, Inc.; Millstone Power Station, Unit 3; New London County, CT
Docket No(s) | 50-423.
Amendment Date | March 25, 2021.
ADAMS Accession No | ML21043A162.
Amendment No(s) | 278.
Brief Description of Amendment(s) | The amendment revised Millstone 3 Technical Specification Surveillance Requirements 4.8.2.1.b.2 and 4.8.2.1.c.3 by adding a new acceptance criterion to verify the total battery connection resistance is within preestablished limits to ensure that the intended design functions are met.
Public Comments Received as to Proposed NSHC (Yes/No) | No.
Duke Energy Carolinas, LLC; Oconee Nuclear Station, Units 1, 2, and 3; Oconee County, SC
Docket No(s) | 50-269, 50-270, 50-287.
Amendment Date | March 15, 2021.
ADAMS Accession No | ML21006A098.
Amendment No(s) | 421 (Unit 1), 423 (Unit 2), and 422 (Unit 3).
Brief Description of Amendment(s) | The amendments revised the current Oconee licensing basis in the updated final safety analysis report with regards to high energy line breaks outside of the containment building for Oconee, Units 1, 2, and 3.
Public Comments Received as to Proposed NSHC (Yes/No) | No.
Duke Energy Progress, LLC; Brunswick Steam Electric Plant, Units 1 and 2; Brunswick County, NC
Docket No(s) | 50-324, 50-325.
Amendment Date | March 18, 2021.
ADAMS Accession No | ML20309A784.
Amendment No(s) | 304 (Unit 1) and 332 (Unit 2).
Brief Description of Amendment(s) | The amendments adopted Technical Specifications Task Force (TSTF) Traveler TSTF-566, “Revise Actions for Inoperable RHR Shutdown Cooling Subsystems.” The amendments revised Technical Specification (TS) 3.4.7, “Residual Heat Removal (RHR) Shutdown Cooling System—Hot Shutdown,” and TS 3.4.8, “Residual Heat Removal (RHR) Shutdown Cooling System—Cold Shutdown.”
Public Comments Received as to Proposed NSHC (Yes/No) | No.
Duke Energy Progress, LLC; Brunswick Steam Electric Plant, Units 1 and 2; Brunswick County, NC
Docket No(s) | 50-324, 50-325.
Amendment Date | March 4, 2021.
ADAMS Accession No | ML20342A347.
Amendment No(s) | 303 (Unit 1) and 331 (Unit 2).
Brief Description of Amendment(s) | The amendments adopted Technical Specifications Task Force (TSTF) Traveler TSTF-582, “RPV [Reactor Pressure Vessel] WIC [Water Inventory Control] Enhancements.”
Public Comments Received as to Proposed NSHC (Yes/No) | No.
Duke Energy Progress, LLC; Shearon Harris Nuclear Power Plant, Unit 1; Wake and Chatham Counties, NC
Docket No(s) | 50-400.
Amendment Date | March 16, 2021.
ADAMS Accession No | ML21035A132.
Amendment No(s) | 182.
Brief Description of Amendment(s) | The amendment revised Technical Specification (TS) 3.3.3.6, “Accident Monitoring Instrumentation,” to change the allowed outage time for inoperable post-accident monitoring (PAM) instrumentation in Action Statements “a” and “b,” replaced the shutdown requirement in Action Statement “a”, for inoperable PAM instruments when the minimum required channels are operable, with a requirement to submit a Special Report to the NRC within 14 days of exceeding the completion time, delete Action Statements “d” and “e,” and add a Note that allows a separate entry for each instrument function. The amendment also revised TS 3.9.2, “Instrumentation,” to remove the audible indication requirement in Mode 6, as well as relocate the requirements for electrical equipment protective devices in TS 3.8.4.1, “Containment Penetration Conductor Overcurrent Protective Devices,” and TS 3.8.4.2, “Motor Operated Valves Thermal Overload Protection,” from TSs to licensee-controlled procedure PLP-106, “Technical Specification Equipment List Program.” Additionally, the amendment also revised the Note in TS 3.9.2 to allow for the substitution of Wide Range Neutron Flux Monitors for both of the Source Range Neutron Flux Monitors required to be operable while in Mode 6.
Public Comments Received as to Proposed NSHC (Yes/No) | No.
Duke Energy Progress, LLC; Shearon Harris Nuclear Power Plant, Unit 1; Wake and Chatham Counties, NC
Docket No(s) | 50-400.
Amendment Date | March 22, 2021.
ADAMS Accession No | ML21033B007.
Amendment No(s) | 183.
Brief Description of Amendment(s) | The amendment revised Shearon Harris Nuclear Power Plant, Unit 1 Technical Specification (TS) 3/4.4.9, “Pressure/Temperature Limits—Reactor Coolant System,” to reflect an update to the pressure and temperature limit curves in TS Figures 3.4-2, “Reactor Coolant System Cooldown Limitations” and 3.4-3, “Reactor Coolant System Heatup Limitations.” The amendment also reflects that the revised pressure and temperature limit curves in TS Figures 3.4-2 and 3.4-3 will be applicable until 55 effective full power years (EFPY) and revised TS Figure 3.4-4, “Maximum Allowed [Power Operated Relief Valve] PORV Setpoint for the Low Temperature Overpressure Protection System,” to reflect that the setpoint values are based on 55 EFPY reactor vessel data.
Public Comments Received as to Proposed NSHC (Yes/No) | No.
Energy Harbor Nuclear Corp. and Energy Harbor Nuclear Generation LLC; Beaver Valley Power Station, Unit 1; Beaver County, PA
Docket No(s) | 50-334.
Amendment Date | March 22, 2021.
ADAMS Accession No | ML21070A000.
Amendment No(s) | 310.
Brief Description of Amendment(s) | The amendment revised Technical Specification 5.5.5.1, “Unit 1 SG [Steam Generator] Program,” paragraph d.2 to defer the spring 2021 refueling outage (1R27) SG inspections to the fall 2022 refueling outage (1R28).
Public Comments Received as to Proposed NSHC (Yes/No) | No.
Energy Harbor Nuclear Corp. and Energy Harbor Nuclear Generation LLC; Beaver Valley Power Station, Units 1 and 2; Beaver County, PA
Docket No(s) | 50-334, 50-412.
Amendment Date | March 10, 2021.
ADAMS Accession No | ML20346A022.
Amendment No(s) | 309 (Unit 1) and 199 (Unit 2).
Brief Description of Amendment(s) | The amendments revised the technical specifications (TSs) to implement new surveillance methods for the heat flux hot channel factor. Specifically, the amendments corrected non-conservative TS 3.2.1 to ensure that plant operation will remain bounded by the facility safety analyses. The list of NRC-approved analytical methods for the core operating limits in TS 5.6.3 was also updated.
Public Comments Received as to Proposed NSHC (Yes/No) | No.
Entergy Louisiana, LLC, and Entergy Operations, Inc.; River Bend Station, Units 1 and 2; West Feliciana Parish, LA; Entergy Operations, Inc., System Energy Resources, Inc., Cooperative Energy, A Mississippi Electric Cooperative, and Entergy Mississippi, LLC; Grand Gulf Nuclear Station, Unit 1; Claiborne County, MS
Docket No(s) | 50-416, 50-458.
Amendment Date | March 4, 2021.
ADAMS Accession No | ML21040A292.
Amendment No(s) | Grand Gulf—228 and River Bend—206.
Brief Description of Amendment(s) | The amendments revised the technical specifications (TSs) to adopt Technical Specifications Task Force (TSTF) Traveler TSTF-501, “Relocate Stored Fuel Oil and Lube Oil Volume Values to Licensee Control,” Revision 1 (ADAMS Accession Nos. ML090510686 and ML100850094), for Grand Gulf Nuclear Station, Unit 1 (Grand Gulf), and River Bend Station, Unit 1 (River Bend). The amendments revised Grand Gulf and River Bend TS 3.8.3, “Diesel Fuel Oil, Lube Oil, and Starting Air,” by removing the current stored diesel fuel oil and lube oil numerical volume requirements from the TSs and placing them in the TS Bases so that they may be modified under licensee control. The TSs are also revised such that the stored diesel fuel oil and lube oil inventory would require that a 7-day supply be available for each diesel generator at Grand Gulf and River Bend. Corresponding surveillance requirements and TS Bases are also revised to reflect the above changes.
Public Comments Received as to Proposed NSHC (Yes/No) | No.
Entergy Operations, Inc.; Arkansas Nuclear One, Unit 1; Pope County, AR
Docket No(s) | 50-313.
Amendment Date | March 10, 2021.
ADAMS Accession No | ML21040A513.
Amendment No(s) | 271.
Brief Description of Amendment(s) | The amendment revised the current loss of voltage relay allowable values contained in Arkansas Nuclear One, Unit 1 Technical Specification 3.3.8, “Diesel Generator (DG) Loss of Power Start (LOPS),” to address, in part, information contained in NRC Regulatory Issue Summary 2011-12, “Adequacy of Station Electric Distribution System Voltages,” Revision 1, dated December 29, 2011.
Public Comments Received as to Proposed NSHC (Yes/No) | No.
Entergy Operations, Inc.; Arkansas Nuclear One, Unit 1; Pope County, AR
Docket No(s) | 50-313.
Amendment Date | March 23, 2021.
ADAMS Accession No | ML21027A428.
Amendment No(s) | 272.
Brief Description of Amendment(s) | The amendment modified Arkansas Nuclear One, Unit 1, Technical Specifications 3.3.6, “Engineered Safeguards Actuation System (ESAS) Manual Initiation,” and 3.6.6, “Spray Additive System.” Specifically, the amendment replaced the current reactor building spray sodium hydroxide additive with a passive reactor building sump buffering agent, sodium tetraborate decahydrate.
Public Comments Received as to Proposed NSHC (Yes/No) | No.
Exelon Generation Company, LLC; Braidwood Station, Units 1 and 2; Will County, IL
Docket No(s) | 50-456, 50-457.
Amendment Date | March 10, 2021.
ADAMS Accession No | ML21054A008.
Amendment No(s) | 220 (Unit 1) and 220 (Unit 2).
Brief Description of Amendment(s) | The amendments revised Technical Specification (TS) 5.5.9, “Steam Generator (SG) Program,” for a one-time revision to the frequency for Unit 1 SG tube inspections to allow deferral of the TS required inspections until the next Unit 1 refueling outage. In addition, the amendments increment the amendment number for Unit 2 because the Unit 2 TS are on the same TS page as Unit 1.
Public Comments Received as to Proposed NSHC (Yes/No) | No.
Indiana Michigan Power Company; Donald C. Cook Nuclear Plant, Unit 2; Berrien County, MI
Docket No(s) | 50-316.
Amendment Date | March 23, 2021.
ADAMS Accession No | ML21062A188.
Amendment No(s) | 339.
Brief Description of Amendment(s) | The amendment revised Technical Specification 5.5.14, “Containment Leakage Rate Testing Program,” to extend the primary containment integrated leak rate test, or Type A test, interval at the Donald C. Cook Nuclear Plant, Unit No. 2. Specifically, the amendment allows for a one-time extension of the current 15-year integrated leak rate test interval by approximately 18 months and no later than the plant startup after the fall 2022 refueling outage.
Public Comments Received as to Proposed NSHC (Yes/No) | No.
Nebraska Public Power District; Cooper Nuclear Station; Nemaha County, NE
Docket No(s) | 50-298.
Amendment Date | March 29, 2021.
ADAMS Accession No | ML21040A300.
Amendment No(s) | 269.
Brief Description of Amendment(s) | The amendment revised the current emergency action level scheme to one based on Nuclear Energy Institute (NEI) guidance in NEI 99-01, Revision 6, “Development of Emergency Action Levels for Non-Passive Reactors,” dated November 2012, which was endorsed by the NRC in a letter dated March 28, 2013.
Public Comments Received as to Proposed NSHC (Yes/No) | No.
Nine Mile Point Nuclear Station, LLC and Exelon Generation Company, LLC; Nine Mile Point Nuclear Station, Unit 1; Oswego County, NY
Docket No(s) | 50-220.
Amendment Date | March 16, 2021.
ADAMS Accession No | ML21077A015 (package).
Amendment No(s) | 245.
Brief Description of Amendment(s) | The amendment revised the primary containment isolation valves surveillance frequency from testing each instrument-line flow check valve to testing a representative sample of approximately 20 percent of the instrument-line flow check valves for each operating cycle with each instrument-line flow check valve being tested at least once every 10 years.
Public Comments Received as to Proposed NSHC (Yes/No) | No.
Northern States Power Company—Minnesota; Prairie Island Nuclear Generating Plant, Units 1 and 2; Goodhue County, MN
Docket No(s) | 50-282, 50-306.
Amendment Date | March 15, 2021.
ADAMS Accession No | ML20346A020.
Amendment No(s) | 235 (Unit 1) and 223 (Unit 2).
Brief Description of Amendment(s) | The amendments modified technical specification requirements to permit the use of Risk-Informed Completion Times in accordance with Technical Specifications Task Force (TSTF) Traveler TSTF-505, Revision 2, “Provide Risk-Informed Extended Completion Times—RITSTF Initiative 4b.”
Public Comments Received as to Proposed NSHC (Yes/No) | No.
Northern States Power Company—Minnesota; Prairie Island Nuclear Generating Plant, Units 1 and 2; Goodhue County, MN
Docket No(s) | 50-282, 50-306.
Amendment Date | March 19, 2021.
ADAMS Accession No | ML21008A001.
Amendment No(s) | 236 (Unit 1) and 224 (Unit 2).
Brief Description of Amendment(s) | The amendments modified the technical specifications (TSs) to remove Note 1 from both TS 3.4.12, “Low Temperature Overpressure Protection (LTOP)−Reactor Coolant System Cold Leg Temperature (RCSCLT) > Safety Injection (SI) Pump Disable Temperature,” and TS Limiting Condition for Operation 3.4.13, “Low Temperature Overpressure Protection (LTOP)−Reactor Coolant System Cold Leg Temperature (RCSCLT) ≤ Safety Injection (SI) Pump Disable Temperature.”
Public Comments Received as to Proposed NSHC (Yes/No) | No.
PSEG Nuclear LLC; Hope Creek Generating Station; Salem County, NJ
Docket No(s) | 50-354.
Amendment Date | March 10, 2021.
ADAMS Accession No | ML21047A313.
Amendment No(s) | 226.
Brief Description of Amendment(s) | The amendment revised Technical Specification 3/4.5.1, “ECCS [Emergency Core Cooling System]—Operating,” Limiting Condition for Operation 3.5.1, Action c, to clarify the entry conditions for the action and to add a new action to address the condition where the high pressure coolant injection system is inoperable, coincident with inoperability of a low pressure coolant injection subsystem and a core spray system subsystem.
Public Comments Received as to Proposed NSHC (Yes/No) | No.
PSEG Nuclear LLC; Hope Creek Generating Station; Salem County, NJ
Docket No(s) | 50-354.
Amendment Date | March 12, 2021.
ADAMS Accession No | ML21050A002.
Amendment No(s) | 227.
Brief Description of Amendment(s) | The amendment adopted Technical Specifications Task Force (TSTF) Traveler TSTF-582, “RPV [Reactor Pressure Vessel] WIC [Water Inventory Control] Enhancements.” The technical specifications related to RPV WIC were revised to incorporate operating experience and to correct errors and omissions in TSTF-542, Revision 2, “Reactor Pressure Vessel Water Inventory Control.”
Public Comments Received as to Proposed NSHC (Yes/No) | No.
R. E. Ginna Nuclear Power Plant, LLC and Exelon Generation Company, LLC; R. E. Ginna Nuclear Power Plant; Wayne County, NY
Docket No(s) | 50-244.
Amendment Date | March 11, 2021.
ADAMS Accession No | ML20353A126.
Amendment No(s) | 144.
Brief Description of Amendment(s) | The amendment revised Technical Specification (TS) 3.3.1, “Reactor Trip System (RTS) Instrumentation,” and TS 3.3.2, “Engineered Safety Feature Actuation System (ESFAS) Instrumentation.” These changes are based on Westinghouse topical reports WCAP-14333-P-A, Revision 1, “Probabilistic Risk Analysis of the RPS and ESFAS Test Times and Completion Times,” and WCAP-15376-P-A, Revision 1, “Risk-Informed Assessment of the RTS and ESFAS Surveillance Test Intervals and Reactor Trip Breaker Test and Completion Times,” and are consistent with NRC approved Technical Specifications Task Force (TSTF) Travelers TSTF-411-A, Revision 1, “Surveillance Test Interval Extensions for Components of the Reactor Protection System (WCAP-15376-P),” and TSTF-418-A, Revision 2, “RPS and ESFAS Test Times and Completion Times (WCAP-14333).”
Public Comments Received as to Proposed NSHC (Yes/No) | No.
Susquehanna Nuclear, LLC and Allegheny Electric Cooperative, Inc.; Susquehanna Steam Electric Station, Units 1 and 2; Luzerne County, PA
Docket No(s) | 50-387, 50-388.
Amendment Date | March 10, 2021.
ADAMS Accession No | ML20317A314.
Amendment No(s) | 280 (Unit 1) and 262 (Unit 2).
Brief Description of Amendment(s) | The amendments revised Technical Specification 3.8.1, “AC [Alternating Current] Sources—Operating.” Specifically, the amendments create a new technical specification action for an inoperable manual synchronization circuit requiring restoration within 14 days.
Public Comments Received as to Proposed NSHC (Yes/No) | No.
Tennessee Valley Authority; Watts Bar Nuclear Plant, Unit 1; Rhea County, TN
Docket No(s) | 50-390.
Amendment Date | March 9, 2021.
ADAMS Accession No | ML21015A034.
Amendment No(s) | 144.
Brief Description of Amendment(s) | The amendment revised Technical Specification 3.3.3, “Post Accident Monitoring (PAM) Instrumentation,” Table 3.3.3-1, to delete the term “plasma” from the footnotes in the PAM instrumentation table.
Public Comments Received as to Proposed NSHC (Yes/No) | No.
Tennessee Valley Authority; Watts Bar Nuclear Plant, Units 1 and 2; Rhea County, TN
Docket No(s) | 50-390, 50-391.
Amendment Date | February 26, 2021.
ADAMS Accession No | ML21034A169.
Amendment No(s) | 143 (Unit 1) and 50 (Unit 2).
Brief Description of Amendment(s) | The amendments revised the Watts Bar Units 1 and 2, Technical Specification (TS) 5.9.5, “Core Operating Limits Report,” to replace the loss-of-coolant accident (LOCA) analysis evaluation model references with reference to the FULL SPECTRUMTM Loss-of-Coolant Accident (FSLOCATM) Evaluation Model analysis. The amendments also revised the Watts Bar, Unit 2, Operating License Condition 2.C(4) to reflect the implementation of the FSLOCA Evaluation Model methodology, and the Watts Bar, Unit 1 TS 4.2.1, “Fuel Assemblies,” to delete discussion of Zircalloy fuel rods. Additionally, the amendments approved the use of the new LOCA-specific tritium producing burnable absorber rod (TPBAR) stress analysis methodology to evaluate the integrity of the TPBARs for the conditions expected during a large-break LOCA and provide a recovery of margin in the post-LOCA criticality evaluation in the presence of assumed TPBAR failures.
Public Comments Received as to Proposed NSHC (Yes/No) | No.
Union Electric Company; Callaway Plant, Unit 1; Callaway County, MO
Docket No(s) | 50-483.
Amendment Date | March 24, 2021.
ADAMS Accession No | ML21053A126.
Amendment No(s) | 225.
Brief Description of Amendment(s) | The amendment revised Technical Specification (TS) Administrative Control (AC) 5.3.1, under TS 5.3, “Unit Staff Qualifications,” and deleted TS AC 5.3.1.1 and TS AC 5.3.1.2 to remove details specified for the qualification of certain positions within the unit staff that are already specified in the Operating Quality Assurance Manual.
Public Comments Received as to Proposed NSHC (Yes/No) | No.

IV. Previously Published Notices of Consideration of Issuance of Amendments to Facility Operating Licenses and Combined Licenses, Proposed No Significant Hazards Consideration Determination, and Opportunity for a Hearing

The following notices were previously published as separate individual notices. They were published as individual notices either because time did not allow the Commission to wait for this monthly notice or because the action involved exigent circumstances. They are repeated here because the monthly notice lists all amendments issued or proposed to be issued involving NSHC.

For details, including the applicable notice period, see the individual notice in the Federal Register on the day and page cited.

License Amendment Request(s)—Repeat of Individual Federal Register Notice
Dominion Energy Nuclear Connecticut, Inc.; Millstone Power Station, Unit 3; New London County, CT
Docket No(s) | 50-423.
Application Date | November 19, 2020.
ADAMS Accession No | ML20324A703.
Brief Description of Amendment(s) | The proposed amendment would revise the renewed facility operating license and technical specifications to support a measurement uncertainty recapture power uprate from 3,650 megawatts thermal (MWt) to 3,709 MWt. The proposed amendment was previously noticed on January 26, 2021 (86 FR 7115), and is being re-noticed to include the instructions for requesting access to sensitive unclassified non-safeguards information.
Date & Cite of Federal Register Individual Notice | April 1, 2021 (86 FR 17211).
Expiration Dates for Public Comments & Hearing Requests | May 3, 2021 (Public Comments); June 1, 2021 (Hearing Requests).
Tennessee Valley Authority; Watts Bar Nuclear Plant, Unit 2; Rhea County, TN
Docket No(s) | 50-391.
Application Date | February 25, 2021.
ADAMS Accession No | ML21056A623.
Brief Description of Amendment(s) | The proposed amendment would revise the Watts Bar Updated Final Safety Analysis Report (UFSAR) to apply a temperature adjustment to the growth rate calculation used to determine the end-of-cycle distribution of indications of axial outer diameter stress corrosion cracking at steam generator tube support plates in support of the Watts Bar, Unit 2 operational assessment. The proposed revision to the UFSAR would apply to Unit 2 only.
Date & Cite of Federal Register Individual Notice | March 24, 2021 (86 FR 15727).
Expiration Dates for Public Comments & Hearing Requests | April 23, 2021 (Public Comments); May 24, 2021 (Hearing Requests).

Dated: April 9, 2021.
For the Nuclear Regulatory Commission.
Craig G. Erlanger,
Director, Division of Operating Reactor Licensing, Office of Nuclear Reactor Regulation.

[FR Doc. 2021-07632 Filed 4-19-21; 8:45 am]

BILLING CODE 7590-01-P